DEPARTMENT OF COMMERCE

National Oceanic and Atmospheric Administration

RIN 0648-XF960

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing, overfished, or approaching an overfished condition. Gulf of Mexico gray triggerfish is now subject to overfishing. The southern Georges Bank/Mid-Atlantic stock of red hake and North Atlantic shortfin mako shark are now both subject to overfishing and overfished. The following Atlantic stocks are still overfished: Atlantic wolffish, ocean pout, the Southern New England/Mid-Atlantic stock of winter flounder, the Gulf of Maine/Georges Bank stock of windowpane flounder, and witch flounder. In addition, three stocks of yellowtail flounder (Georges Bank, Cape Cod/Gulf of Maine and Southern New England/Mid-Atlantic), and two stocks of Atlantic cod (Georges Bank and Gulf of Maine) are all still subject to overfishing and overfished. NMFS, on behalf of the Secretary, notifies the appropriate fishery management council (Council) whenever it determines that a stock is subject to overfishing, is in an overfished condition, or is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that Gulf of Mexico gray triggerfish is now subject to overfishing. In years in which this stock is assessed, Gulf of Mexico gray triggerfish is subject to overfishing if the fishing mortality rate (F) is greater than the maximum fishing mortality threshold (MFMT). In non-assessment years, the stock is subject to overfishing if total landings exceed the overfishing limit (OFL). While the most recent stock assessment (from 2015, using data from 2013) supported a determination that the stock was not subject to overfishing, landings data from 2016, finalized in 2017, support a determination that gray triggerfish is subject to overfishing because total landings in 2016 were greater than the OFL. NMFS has informed the Gulf of Mexico Fishery Management Council that it must take action to end overfishing immediately on this stock.

NMFS has determined that the Southern Georges Bank/Mid-Atlantic stock of red hake and North Atlantic shortfin mako shark are now both subject to overfishing and overfished. The Northeast Fisheries Science Center completed the most recent assessment of the Southern Georges Bank/Mid-Atlantic stock of red hake in 2017, using data through 2016. This assessment supports a determination that the stock is now subject to overfishing because the exploitation rate exceeds targets, and overfished because survey indices are below the minimum stock size threshold. NMFS has informed the New England Fishery Management Council (New England Council) that it must take action to end overfishing immediately on, and rebuild, this stock.

The latest stock assessment for North Atlantic shortfin mako shark was finalized in 2017 by the International Commission for the Conservation of Atlantic Tuna's (ICCAT's) Standing Committee for Research and Statistics, using data through 2015. This assessment supports a recommendation of subject to overfishing because fishing mortality exceeds targets and overfished because estimates of biomass in 2015 are less than the biomass targets. Under the Atlantic Tunas Convention Act, NMFS will implement new ICCAT management measures to address overfishing and begin rebuilding this stock.

NMFS has also determined that the following Atlantic stocks are still overfished: Atlantic wolffish, ocean pout, the Southern New England/Mid-Atlantic stock of winter flounder, and the Gulf of Maine/Georges Bank stock of windowpane flounder. Determinations are based on the most recent stock assessments, completed in 2017, using data through 2016, which indicate that biomass estimates remain below targets for these stocks. The status of Atlantic witch flounder could not be quantitatively determined and was qualitatively determined to be overfished based on poor stock condition.

NMFS has determined that the Cape Cod/Gulf of Maine and Southern New England/Mid-Atlantic stocks of yellowtail flounder and Gulf of Maine Atlantic cod are still subject to overfishing and overfished. These determinations are based on the most recent stock assessments, completed in 2017, using data through 2016, which indicate that biomass remains below targets and fishing mortality remains above thresholds. The 2017 assessment provided no accepted models and no qualitative information to recommend stock status for Georges Bank yellowtail flounder and Georges Bank cod. Thus, status for these stocks continues to be listed as subject to overfishing and overfished, based on the last accepted assessment conducted in 2013. These assessments continue status determinations made previously and NMFS has informed the New England Council that it must take action to end overfishing and rebuild these stocks.

Dated: February 28, 2018.
Jennifer M. Wallace,
Acting Director, Office of Sustainable Fisheries Service, National Marine Fisheries Service.

[FR Doc. 2018-04398 Filed 3-2-18; 8:45 am]

BILLING CODE 3510-22-P